DEPARTMENT OF STATE

[Public Notice: 12103]

Notice of Public Meeting in Preparation for International Maritime Organization Council 129 Meeting

The Department of State will conduct a public meeting at 10:00 a.m. on Thursday, July 13, 2023, both in-person at Coast Guard Headquarters in Washington, DC, and via teleconference. The primary purpose of the meeting is to prepare for the 129th session of the International Maritime Organization's (IMO) Council (C 129) to be held in London, United Kingdom from Monday, July 17, 2023 to Friday, July 21, 2023.

Members of the public may participate up to the capacity of the teleconference phone line, which can handle 500 participants or up to the seating capacity of the room if attending in person. The meeting location will be the United States Coast Guard Headquarters, 5PS Conference Room, and the teleconference line will be provided to those who RSVP. To RSVP, participants should contact the meeting coordinator, LT Emily Rowan, by email at Emily.K.Rowan@uscg.mil. LT Rowan will provide access information for in-person and virtual attendance.

The agenda items to be considered at this meeting mirror those to be considered at Council 129, and include:

—Adoption of the agenda

—Report of the Secretary-General on credentials

—Rules of Procedure

—Strategy, planning and reform

—Resource Management

—Results-based budget for 2024-2025

—Consolidated text of the IMO Convention

—IMO Member State Audit Scheme

—Reports of the Maritime Safety Committee

—Reports of the Marine Environmental Protection Committee

—Report of the Legal Committee

—Report of the Facilitation Committee

—Protection of vital shipping lanes

—Assembly matters

—External relations

—Report on the status of the Convention and membership of the Organization

—Report on the status of conventions and other multilateral instruments in respect of which the Organization performs functions

—Hybrid meeting capabilities

—Matters arising from C/ES.35

—Appointment of the Secretary-General

—Place, date and duration of the next session of the Council (C 130) and substantive items for inclusion in the provisional agendas for the next two sessions of the Council (C 130 and C 131)

—Supplementary agenda items, if any

Please note: the IMO may, on short notice, adjust the C 129 agenda to accommodate the constraints associated with the meeting format. Any changes to the agenda will be reported to those who RSVP.

Those who plan to participate should contact the meeting coordinator, LT Emily Rowan, by email at Emily.K.Rowan@uscg.mil, or in writing at 2703 Martin Luther King Jr. Ave. SE, Stop 7509, Washington, DC 20593-7509, by July 6, 2023. Please note that, due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than July 6, 2023. Requests made after that date will be considered but might not be possible to fulfill.

Additional information regarding this and other IMO public meetings may be found at: https://www.dco.uscg.mil/IMO.

(Authority: 22 U.S.C. 2656)

Emily A. Rose,
Coast Guard Liaison Officer, Office of Ocean and Polar Affairs, Department of State.

[FR Doc. 2023-13201 Filed 6-21-23; 8:45 am]

BILLING CODE 4710-09-P